DEPARTMENT OF DEFENSE

Department of the Army

32 CFR Part 643

[Docket ID: USA-2019-HQ-0008]

RIN 0702-AA93

Real Estate

AGENCY: Department of the Army, DoD.

ACTION: Final rule.

SUMMARY: This final rule removes Department of the Army's regulation concerning granting use of real property under the jurisdiction or control of the Department of the Army. The rule is being removed because its content is internal to the Department. Current policy and procedures on this subject can be found in internal documents.

DATES: Effective July 22, 2019.

ADDRESSES: Department of the Army, Office of the Deputy Chief of Staff, G-1, DAPE-HR, 200 Army Pentagon, Washington, DC 20310-0300.

FOR FURTHER INFORMATION CONTACT: Ms. Cheryl Moman, (703) 325-0050.

SUPPLEMENTARY INFORMATION: This final rule removes the Department of Army regulation at 32 CFR part 643 which was codified on July 10, 1978 (43 FR 29748) and has not since been updated. The content of the rule is internal to the Department, and current internal policy and procedures are maintained in Army Regulation 405-80—Management of Title and Granting of Use of Real Property, (available at https://armypubs.army.mil/epubs/DR_pubs/DR_a/pdf/web/r405_80.pdf) which was most recently updated on October 10, 1997.

It has been determined that publication of this CFR part removal for public comment is impracticable, unnecessary, and contrary to public interest since it is based on removing internal Army policy and procedures.

This rule is not significant under Executive Order (E.O.) 12866, Sec 3, “Regulatory Planning and Review,” therefore; E.O. 13771, “Reducing Regulation and Controlling Regulatory Costs” does not apply.

List of Subjects in 32 CFR Part 643

Engineers Corps, Federal buildings and facilities, Intergovernmental relations, Rights-of-way.

PART 643—[REMOVED AND RESERVED]

Accordingly, for reasons stated in the preamble, under the authority of 5 U.S.C. 301 and 10 U.S.C. 3012, 32 CFR part 643 is removed and reserved.

Brenda S. Bowen,
Army Federal Register Liaison Officer.

[FR Doc. 2019-15514 Filed 7-19-19; 8:45 am]

BILLING CODE 5001-03-P